DEPARTMENT OF HEALTH AND HUMAN SERVICES

Administration for Children and Families

Notice of Partially Closed Meeting; National Commission on Children and Disasters

AGENCY: Administration for Children and Families, Department of Health and Human Services.

ACTION: Notice of meeting.

DATES: The open session of the meeting will be held on Thursday, November 20, 2008, from 10:45 a.m. to 5:30 p.m. and Friday, November 21, 2008, from 8:30 a.m. to 1:30 p.m. The closed session of the meeting will be held on Thursday, November 20, 2008, from 8:30 a.m. to 10:30 a.m. The portion of the meeting that will be closed to the public shall be so in accordance with the provisions set forth in sections 552b(c)(6), Title 5 U.S.C., as amended.

ADDRESSES: The meeting will be held at the Administration for Children and Families, 901 D Street, SW., Washington, DC 20447. Seating is limited. To attend, please register by 5 p.m. EST, November 17, 2008. To register, please e-mail carol.apelt@acf.hhs.gov with “Meeting Registration” in the subject line, or call Carol Apelt at (202) 205-4618. Registration must include your name, affiliation, and phone number. If you require a sign language interpreter or other special assistance, please contact Carol Apelt as soon as possible and no later than 5 p.m. EST, November 14, 2008.

Agenda: As pertaining to man-made and natural disaster situations, the Commission will hear presentations on and discuss: (1) Medical countermeasures; (2) case management; (3) shelter design and transition to permanent housing; (4) acute medical care; (5) other matters as may reasonably come before the Commission and plans for future work of the Commission.

Additional Information: Contact Roberta Lavin, Office of Human Services Emergency Preparedness and Response, e-mail roberta.lavin@acf.hhs.gov or (202) 401-9306.

SUPPLEMENTARY INFORMATION: The National Commission on Children and Disasters is an independent Presidential Commission that shall independently conduct a comprehensive study to examine and assess the needs of children as they relate to preparation for, response to, and recovery from all hazards, building upon the evaluations of other entities and avoiding unnecessary duplication by reviewing the findings, conclusions, and recommendations of these entities. The Commission shall then submit a report to the President and the Congress on the Commission's independent and specific findings, conclusions, and recommendations to address the needs of children as they relate to preparation for, response to, and recovery from all hazards, including major disasters and emergencies.

Dated: October 31, 2008.
Daniel C. Schneider,
Acting Assistant Secretary for Children and Families.

[FR Doc. E8-26418 Filed 11-5-08; 8:45 am]

BILLING CODE 4184-01-P